GENERAL SERVICES ADMINISTRATION

[Notice-P-2024-08; Docket No. 2024-0002; Sequence No. 36]

Notice of Availability for a Draft Environmental Impact Statement and Floodplain Assessment and Statement of Findings for the Kenneth G. Ward (Lynden) and Sumas Land Ports of Entry Modernization and Expansion Projects in Lynden and Sumas, Washington

AGENCY: Public Buildings Service (PBS), United States (U.S.) General Services Administration (GSA).

ACTION: Notice of availability (NOA); public notice of floodplain assessment and statement of findings; announcement of public hearing.

SUMMARY: This notice announces the availability of the Draft Environmental Impact Statement (EIS), which examines potential environmental impacts from the modernization and expansion of the Lynden and Sumas Land Ports of Entry (LPOE) in Lynden and Sumas, Washington. The existing Lynden and Sumas LPOEs are owned and managed by GSA and operated by the U.S. Department of Homeland Security's Customs and Border Protection (CBP). The Draft EIS describes the purpose and need for the project; alternatives considered; the existing environment that could be affected; the potential impacts resulting from each of the alternatives; and proposed best management practices and/or mitigation measures. The Draft EIS also includes a Floodplain Assessment and Statement of Findings due to the construction in a floodplain at the Sumas LPOE.

DATES:

Public Comment Period—The Public Comment Period begins with publication of this NOA in the Federal Register and will last until September 26, 2024. Written comments must be received or postmarked by the last day of the Public Comment Period (see the ADDRESSES section of this NOA on how to submit comments).

Hearing Date—GSA will host an in-person, open house public hearing on Wednesday, September 4, 2024, from 6 p.m. to 8 p.m., Pacific Time (PT) (see the ADDRESSES section below for location address).

ADDRESSES:

Hearing Location—The public may attend the hearing at the American Legion Post 212 Building at 134 Harrison St., Sumas, WA 98295, to view the presentation and provide comments on the Draft EIS. GSA staff members will be available to assist the public in providing public comments.

Public Comments—In addition to oral comments and written comments provided at the public hearing, members of the public may also submit comments by one of the following methods. All oral and written comments will be considered equally and will be part of the public record.

• Electronic comments should be submitted to the Lynden and Sumas LPOE email addresses listed below.

lyndenlpoe@gsa.gov

sumaslpoe@gsa.gov

Please include `Lynden and Sumas LPOEs EIS' in the subject line of the message.

• Written comments on the EIS should be mailed to: ATTN: Patrick Manning, Capital Project Manager, Lynden and Sumas LPOEs EIS, U.S. General Services Administration, Northwest/Artic, Region 10, 1301 A Street, Suite 610, Tacoma, WA 98402.

FOR FURTHER INFORMATION CONTACT: Patrick Manning, Capital Project Manager, GSA at the Lynden and Sumas LPOE email addresses at lyndenlpoe@gsa.gov or sumaslpoe@gsa.gov, or at 202-501-4755.

SUPPLEMENTARY INFORMATION:

Public Comment Period

The views and comments of the public are necessary in helping GSA in its decision-making process regarding environmental, cultural, and economic impacts. Public comments will be solicited through an in-person public hearing; direct mail correspondence to appropriate Federal, state, and local agencies, Tribes, and to private organizations and citizens who have previously expressed or are known to have an interest in the project; and in local newspapers. The Draft EIS has considered previous input provided during the scoping period.

Public Hearing Information

The public hearing will begin with presentations on the National Environmental Policy Act (NEPA) and National Historic Preservation Act (NHPA) processes, which are being executed concurrently for this project, as well as an overview of the proposed project, and then will continue with the findings of the Draft EIS. A copy of the presentation slideshow will be made available within days of the hearing at the GSA websites at www.gsa.gov/lynden and www.gsa.gov/sumas. Following the presentation, GSA will hold an open house meeting where members of the public can discuss the projects with GSA staff members and provide written comments on the Draft EIS.

Background

The existing 4.8-acre Lynden LPOE serves as the port of entry for people and vehicles connecting Lynden, Washington to Aldergrove, British Columbia, Canada. The LPOE currently operates 16 hours per day, 7 days per week and processes privately owned vehicles (POVs), buses, pedestrians, and permitted commercial traffic. The existing 4.0-acre Sumas LPOE serves as the port of entry for people and vehicles connecting Sumas, Washington to Abbotsford, British Columbia, Canada. The LPOE operates 24 hours per day, 7 days per week and processes POVs, buses, pedestrians, and commercial traffic.

The purpose of these expansion and modernization projects is for GSA to support the CBP mission through modernizing and expanding the Lynden and Sumas LPOEs. Accomplishing this purpose would increase the functionality, capacity, operational efficiency, effectiveness, security, sustainability, and safety of the Lynden and Sumas LPOEs. The projects are generally needed to update the current facilities at the Lynden and Sumas LPOEs, which no longer function adequately and cannot meet CBP current operational needs or Program of Requirements. The existing Lynden and Sumas LPOEs have not undergone major improvements since their initial construction in the late 1980s and do not have sufficient space for modernization and expansion. Both facilities also have configuration and space issues that cause traffic, delays in processing times, and safety and security issues for inspection personnel. Additionally, these facilities do not have the ability to incorporate new technologies as they become available. The projects at the Lynden and Sumas LPOEs are analyzed jointly in this Draft EIS due to their proximity (approximately 10 miles) to one another. Operational changes at one of the two LPOEs could have impacts on the other LPOE, especially during construction. GSA has prepared a Draft EIS to assess the potential impacts of these expansion and modernization projects.

Alternatives Under Consideration

The EIS considers two action alternatives for the Lynden LPOE and three action alternatives for the Sumas LPOE, along with two construction sequencing options. GSA also considers the No Action Alternatives for each project location.

Action alternatives for the Lynden LPOE are described below.

Lynden Alternative 2 (East-West Oriented LPOE Expansion) would involve potential acquisition of primarily agricultural land to the west of the LPOE, site preparation, and construction to modernize and expand the LPOE. The maximum proposed limits of disturbance for Lynden Alternative 2 would be approximately 14.5 acres.

Lynden Alternative 3 (North-South Oriented LPOE Expansion) would include the same action as Lynden Alternative 2, with a difference of alignment. The maximum proposed limits of disturbance for Alternative 3 would be approximately 10.3 acres.

Action Alternatives for the Sumas LPOE are described below.

Sumas Alternative 2 (Feasibility Study Preferred Alternative) would involve potential acquisition of land south and east of the LPOE, site preparation, and construction to modernize and expand the LPOE. The maximum proposed limits of disturbance for Sumas Alternative 2 would be approximately 12.9 acres.

Sumas Alternative 3 (Commercial Inspection West) would include the same action and maximum proposed limits of disturbance as Alternative 2, with a difference of a “flipped” alignment of the commercial inspection facility.

Sumas Alternative 4 (Multi-Story Construction LPOE Expansion) would include the same action and maximum proposed limits of disturbance as Sumas Alternative 2, with a difference of multi-story Main Building being constructed.

Construction sequencing options are described below.

Under the Concurrent Construction option, both ports would remain open during construction. Pedestrian access would be maintained through the ports by utilizing and resetting, as necessary, various access and safety controls. POV access would also be maintained through both ports using various controls, which may require limits on the number of open processing lanes and shifting of POVs to commercial owned vehicle (COV) lanes for limited times. COVs may need to be detoured at times to other ports to permit adequate space for continued POV processing.

Under the Sequential Construction Option, GSA and CBP are considering the potential for closure of the Lynden LPOE. All traffic, pedestrians, POVs, and COVs would be detoured from the Lynden LPOE during the majority of its construction. Once the modernized and expanded Lynden LPOE is reopened, construction that impacts traffic would begin on the Sumas LPOE. The Sumas LPOE would remain open to pedestrians and POVs during construction to the greatest extent possible. COVs would be detoured from the Sumas LPOE to other LPOEs during portions of the construction period.

The Draft EIS addresses the potential environmental impacts of the proposed alternatives on environmental resources including land use; water resources; biological resources; geology, topography, and soils; air quality, climate change, and greenhouse gases; human health and safety; infrastructure and utilities; traffic and transportation; noise and vibration; socioeconomics; and environmental justice and protection of children's health and safety. Based on the analysis presented in the Draft EIS, impacts to all resource areas would be less-than-significant (i.e., negligible, minor, or moderate) adverse or beneficial. Impact reduction measures are presented in the Draft EIS to reduce potential adverse effects.

GSA is currently undergoing formal consultation with the State Historic Preservation Officer (SHPO) and consulting parties to follow coordination procedures as required under section 106 of the NHPA to determine impacts to historic properties. Mitigation measures may be determined in consultation between GSA, SHPO, and applicable consulting parties.

GSA is in the process of conducting informal consultation with the U.S. Fish and Wildlife Service (USFWS) under section 7 of the Endangered Species Act to determine potential effects to federally protected species and migratory birds. GSA initiated consultation with the USFWS regarding the Lynden LPOE and Sumas LPOE and is awaiting USFWS responses and findings. Once received, USFWS responses and findings would be included in the Final EIS.

GSA coordinated with the Natural Resources Conservation Service (NRCS) via email concerning the Federal Farmland Protection Policy Act conversion impact rating forms completed for both the Lynden and Sumas LPOEs and is awaiting NRCS responses and findings. Once received, the NRCS responses and findings would be included in the Final EIS.

The Sumas LPOE project area is located within the 1-percent-annual-chance floodplain (also referred to as the base flood or 100-year flood) and 0.2-percent-annual-chance floodplain (also referred to as the 500-year flood). In compliance with Executive Order 11988 (Floodplain Management), GSA prepared a Floodplain Assessment and Statement of Findings addressing potential impacts on floodplains, which is included in the Draft EIS for public review and comment. As described in the Draft EIS, GSA would follow Federal, state, and local regulatory compliance requirements and incorporate design standards at the Sumas LPOE to minimize impacts to floodplains.

Anamarie Crawley,
Director, R10 Facilities Management Division Northwest/Arctic Region 10, U.S. General Services Administration.

[FR Doc. 2024-17864 Filed 8-9-24; 8:45 am]

BILLING CODE 6820-DL-P